DEPARTMENT OF HEALTH AND HUMAN SERVICES

Administration for Children and Families

Submission for OMB Review; Comment Request

Title: The National Evaluation of the Court Improvement Program.

OMB No.: New Collection.

Description: The National Evaluation of the Court Improvement Program will describe the many paths followed by state courts to improve their oversight of child welfare cases, and will provide the field with information on effective models for juvenile and family court reform. Funded by the Children's Bureau, U.S. Department of Health and Human Services (HHS) in 2004, the five-year study is being carried out by a partnership of three organizations consisting of Planning and Learning Technologies (Pal-Tech, Inc.), the Urban Institute and the Center for Policy Research.

The Federal Court Improvement Program (CIP) was established in 1994 as a source of funding for state courts to assess and improve their handling of foster care and adoption proceedings. The funding is codified in title IV-B, subpart 2 of the Social Security Act, Section 438, as part of the Promoting Safe and Stable Families Program. Although anecdotal information documents the program's success, this is the first national evaluation of CIP. This study builds on the recommendations of a Children's Bureau funded evaluability assessment (EA) of the program completed in 2003 by James Bell Associates, Inc.

The National Evaluation of the Court Improvement Program involves three interrelated components:

1. Reviewing and synthesizing state and local court reform activities: This component will describe the full range of CIP-funded court reforms undertaken by states at the beginning and ending of the study's data collection period. Additionally, it will provide insights into states' reform priorities and how these shift over time. Especially promising models of reform will be highlighted. Finally, this component will provide important contextual information for the study's in-depth evaluation component of select models of reform. Information for this activity will be synthesized from existing reports submitted by states to the Children's Bureau.

2. Reviewing and synthesizing existing court reform evaluations: This component will identify and synthesize findings from research and evaluation conducted on family and juvenile court reforms. It will provide important context for the study's in-depth evaluation component in two ways. Findings on reform activities beyond those captured within the study sites will be provided. It will also help inform evaluation within the study sites by providing information on previously conducted evaluation of similar reform models. Information for this activity will be synthesized from existing evaluations and studies of court reform. Evaluations will be prioritized for synthesis based on their methodological rigor and findings reported in the substantive areas defined by the EA. These are:

• Alternative dispute resolution.

• Training and educational materials.

• Case tracking and management.

• Improvements to the consistency and quality of hearings.

• Parent/caregiver outreach, education, and support.

• Systemic court reforms.

3. Conducting in-depth studies of reform models: In-depth evaluation of select models of reform will be undertaken within three, diverse sites across the country. The study designs vary among sites, and include quasi-experimental and descriptive outcome methodologies. Reflecting the Adoption and Safe Families Act, the primary outcome areas of interest will be child safety, the timely achievement of permanency, and child well-being. Within each site, outcome evaluation will be complemented by a qualitative study of the many factors that impacted reform including other related reform efforts, the evolution of the target reform over time, barriers encountered, and methods by which these barriers were overcome.

The outcome evaluation will utilize information from existing court and child welfare agency management information systems. Within select sites, information from these sources will be supplemented with information abstracted from existing court and/or child welfare agency case records. The process evaluation will help inform outcome findings within the study sites as well as provide important insights for the replication of the model within other sites. It will involve the collection of new information through structured focus groups and interviews with key individuals, as well as court observations of child dependency hearings. This descriptive information will be collected twice during the study.

The three sites selected for in-depth analysis are the following:

• Connecticut's Case Management Protocol: Piloted in December 1997, the protocol involves a pre-hearing conference of professionals held early in the dependency court process coupled with expanded parent representation.

• Delaware's Systemic Reform: Piloted in 2000, the three primary components of the state's comprehensive reform effort are:

• One judge/one case assignment practice where one judge presides over all legal stages of a dependency case

• Defined sequence of hearings and reviews that significantly increases the number of hearings and oversight role of the courts

• Representation for indigent parents in child welfare proceedings

• Texas' Cluster Courts: Piloted in 1997, these courts are located in rural areas of the state. Each court serves a cluster of contiguous counties, and a specially trained judge is appointed to travel to each county within a cluster on a given day to hear that county's child welfare cases. The cluster courts were formed to enable rural counties to meet the state's strict permanency statute guidelines that were enacted January 1, 1998.

Collectively, findings from the three study components will capture the ongoing nationwide process of court reform supported by the Court Improvement Program. A technical work group comprised of leading researchers, judicial and child welfare agency officials and representatives of public interest groups has been assembled to provide input at key points during the study.

Respondents: Study respondents include individuals in the following categories among the three study sites noted above:

• Court Improvement Program (CIP) administrators.

• Judges.

• Attorneys (representing the parent, child, and agency).

• Court Appointed Special Advocates (CASAs) and Guardians Ad Litem (GALs).

• Child welfare agency administrators.

• Regional child welfare directors and supervisors.

• Child welfare agency caseworkers.

Annual Burden Estimates

Annual Burden Estimates
Instrument | Number of respondents | Number of responses per respondent | Average burden hours per response | Total burden hours
CIP Administrators | 8 | 1 | 2 | 16
Judges | 30 | 1 | 1 | 30
Attorneys (parent and agency) | 95 | 1 | 2 | 190
CASAs and GALs | 55 | 1 | 2 | 110
Child Welfare Agency Administrators | 10 | 1 | 1 | 10
Child Welfare Agency Directors & Supervisors | 30 | 1 | 2 | 60
Child Welfare Agency Workers | 120 | 1 | 2 | 240
Total |  |  |  | 656

Estimated Total Annual Burden Hours: 656.

Additional Information

Copies of the proposed collection may be obtained by writing to the Administration for Children and Families, Office of Administration, Office of Information Services, 370 L'Enfant Promenade, SW., Washington, DC 20447, Attn: ACF Reports Clearance Officer. All requests should be identified by the title of the information collection. e-mail address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: Katherine_T._Astrich@omb.eop.gov.

Dated: October 28, 2005.
Robert Sargis,
Reports Clearance Officer.

[FR Doc. 05-21674 Filed 10-31-05; 8:45 am]

BILLING CODE 4184-01-M